DEPARTMENT OF HEALTH AND HUMAN SERVICES

Centers for Disease Control and Prevention (CDC)

Requirements and Registration for Healthcare Associated Venous Thromboembolism Prevention Challenge; Amendment of Notice

Authority: 15 U.S.C. 3719.

AGENCY: Centers for Disease Control and Prevention (CDC), Department of Health and Human Services (HHS).

AWARD APPROVING OFFICIAL: Thomas R. Frieden, MD, MPH, Director, Centers for Disease Control and Prevention, and Administrator, Agency for Toxic Substances and Disease Registry.

ACTION: Notice.

SUMMARY: The Centers for Disease Control and Prevention (CDC) located within the Department of Health and Human Services (HHS) announces an amendment to its notice entitled, Announcement of Requirements and Registration for Healthcare Associated Venous Thromboembolism Prevention Challenge. This amendment is being made to reflect an increase in the number of Champions and change the maximum total prize disbursement. There are no other changes to the September 22, 2015 notice.

FOR FURTHER INFORMATION CONTACT: Michele Beckman, Division of Blood Disorders, National Center on Birth Defects and Developmental Disabilities, Centers for Disease Control and Prevention, 1600 Clifton Road NE., Mailstop E-64, Atlanta, GA 30329, Telephone: 404-498-6474, Fax: 404-498-6799, Attention: HA-VTE Prevention Challenge, Email: havtechallenge@cdc.gov.

SUPPLEMENTARY INFORMATION:

Subject of Challenge Competition: On September 22, 2015 CDC announced the Requirements and Registration for Healthcare Associated Venous Thromboembolism Prevention Challenge (80 FR 57187). This notice announces an increase in the number of Champions, from 7 to 8. The Champions were selected from the highest scoring U.S. hospitals, multi-hospital systems, hospital networks, and managed care organizations. Champions were recognized as HA-VTE Prevention Champions and will receive a cash award of $10,000. A maximum of $80,000 will now be awarded in this challenge, an increase of $10,000. Additional honorable mention awards were also made to deserving entries. Federal and international winners received non-monetary recognition but no prize.

Authority: 15 U.S.C. 3719.

Dated: June 7, 2016.
Sandra Cashman,
Executive Secretary, Centers for Disease Control and Prevention.

[FR Doc. 2016-13850 Filed 6-10-16; 8:45 am]

BILLING CODE 4163-18-P